DEPARTMENT OF ENERGY

Federal Energy Regulatory Commission

[Docket No. CP14-488-000]

Northern Natural Gas Company; Notice of Request Under Blanket Authorization

Take notice that on May 14, 2014, Northern Natural Gas Company (Northern), pursuant to the blanket certificate authorization granted to Northern on September 1, 1982, in Docket No. CP82-401-000,¹ filed an application in accordance to sections 157.205, 157.208, and 157.216 of the Commission's Regulations under the Natural Gas Act (NGA) as amended, requesting authority to replace and operate approximately 5.6 miles of its existing 12-inch-diameter Marquette branch line (MIM10101) located in Marquette County, Michigan, all as more fully set forth in the application which is on file with the Commission and open to public inspection.

¹ 20 FERC ¶ 62,410 (1982).

In order to remediate anomalies discovered during a caliper pig run, Northern proposes to replace approximately 5.6 miles of the existing MIM10101 with a 12-inch-diameter pipeline that begins at approximately MP 236.10 and ends at approximately MP 241.70 located in Marquette County, Michigan. The new replacement pipeline will primarily be installed parallel and adjacent to the existing pipeline, with the exception of approximately 4,435 feet of the pipeline which will be installed in new right-of-way. No auxiliary installations are included with the proposed project. The existing line will be cut, purged of gas, capped, and abandoned in-place. Northern will retain all easements related to the abandoned segment of pipe as well as responsibility for the abandoned pipeline. The total estimated cost of the proposed project is $17,120,470.

Any questions concerning this application may be directed to Michael T Loeffler, Senior Director, Certificates and External Affairs for Northern, 1111 South 103rd Street, Omaha, Nebraska 68124, at (402) 398-7103 or Bret Fritch, Senior Regulatory Analyst, at (402) 398-7140.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Pursuant to section 157.9 of the Commission's rules, 18 CFR 157.9, within 90 days of this Notice, the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

Any person or the Commission's staff may, within 60 days after issuance of the instant notice by the Commission, file pursuant to Rule 214 of the Commission's Procedural Rules (18 CFR 385.214) a motion to intervene or notice of intervention and pursuant to section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Dated: May 23, 2014.
Kimberly D. Bose,
Secretary.

[FR Doc. 2014-12640 Filed 5-30-14; 8:45 am]

BILLING CODE 6717-01-P